DEPARTMENT OF THE INTERIOR

Fish and Wildlife Service

[FWS-R8-ES-2020-N073; FXES11140800000-201-FF08ECAR00]

Safe Harbor Agreement for the Reintroduction of the Amargosa Vole (Microtus californicus scirpensis) in Shoshone, CA, and Draft Environmental Action Statement, Inyo County, CA

AGENCY: Fish and Wildlife Service, Interior.

ACTION: Notice of availability; request for comments.

SUMMARY: We, the U.S. Fish and Wildlife Service (Service), have received an application from Susan Sorrells (applicant) for an enhancement of survival permit (permit) under the Endangered Species Act. The application includes a draft safe harbor agreement (SHA) to facilitate reintroduction and recovery of the federally endangered Amargosa vole on non-Federal land in California. We have prepared a draft environmental action statement (EAS) for our preliminary determination that the SHA and permit decision may be eligible for categorical exclusion under the National Environmental Policy Act. We invite the public to review and comment on the permit application, draft SHA, and the draft EAS.

DATES: To ensure consideration, please send your written comments on or before August 17, 2020.

ADDRESSES: You may view or download copies of the draft SHA and draft EAS and obtain additional information on the internet at https://www.fws.gov/carlsbad/, or obtain hard copies or a CD-ROM by calling the phone number listed below. You may submit comments or requests for more information by any of the following methods:

• Email: fw8cfwocomments@fws.gov. Include “Amargosa vole SHA” in the subject line of the message.

• U.S. Mail: Assistant Field Supervisor, U.S. Fish and Wildlife Service, Palm Springs Fish and Wildlife Office, 777 East Tahquitz Canyon Way, Suite 208, Palm Springs, CA 92262.

FOR FURTHER INFORMATION CONTACT: Scott Hoffmann, Palm Springs Fish and Wildlife Office (see ADDRESSES); by telephone at 760-322-2070 or by electronic mail at scott_hoffmann@fws.gov. If you use a telecommunications device for the deaf (TDD), please call the Federal Information Relay Service at 800-877-8339.

SUPPLEMENTARY INFORMATION: Susan Sorrells, hereafter referred to as the applicant, has applied to the U.S. Fish and Wildlife Service for permit pursuant to section 10(a)(1)(A) of the Endangered Species Act of 1973, as amended (ESA; 16 U.S.C. 1531 et seq.). The permit application includes a draft safe harbor agreement (SHA), which covers 467 acres owned by the applicant in Inyo County, California. The proposed term of the permit and the SHA is 30 years. The permit would authorize incidental take of the endangered Amargosa vole (Microtus californicus scirpensis) in exchange for habitat conservation actions that are expected to provide a net conservation benefit for the species. We have prepared a draft environmental action statement (EAS) for our preliminary determination that the SHA and permit decision may be eligible for categorical exclusion under the National Environmental Policy Act (NEPA; 43 U.S.C. 4321 et seq.). We invite the public to review and comment on the permit application, draft SHA, and the draft EAS.

Background Information

SHAs are intended to encourage private or other non-Federal property owners to implement beneficial conservation actions for species listed under the ESA. SHA permit holders are assured that they will not be subject to increased property use restrictions as a result of their proactive actions to benefit listed species. Incidental take of listed species is authorized under a permit pursuant to the provisions of section 10(a)(1)(A) of the ESA. For an applicant to receive a permit through an SHA, the applicant must submit an application form that includes the following:

(1) The common and scientific names of the listed species for which the applicant requests incidental take authorization;

(2) A description of how incidental take of the listed species pursuant to the SHA is likely to occur, both as a result of management activities and as a result of the return to baseline; and

(3) A description of how the SHA complies with the requirements of the Service's Safe Harbor policy.

For the Service to issue a permit, we must determine that:

(1) The take of listed species will be incidental to an otherwise lawful activity and will be in accordance with the terms of the SHA;

(2) The implementation of the terms of the SHA is reasonably expected to provide a net conservation benefit to the covered species by contributing to its recovery, and the SHA otherwise complies with the Service's Safe Harbor Policy (64 FR 32717, June 17, 1999);

(3) The probable direct and indirect effects of any authorized take will not appreciably reduce the likelihood of survival and recovery in the wild of any listed species;

(4) Implementation of the terms of the SHA is consistent with applicable Federal, State, and Tribal laws and regulations;

(5) Implementation of the terms of the SHA will not be in conflict with any ongoing conservation or recovery programs for listed species covered by the permit; and

(6) The applicant has shown capability for and commitment to implementing all of the terms of the SHA.

The Service's Safe Harbor Policy (64 FR 32717) and the Safe Harbor Regulations (68 FR 53320, 69 FR 24084) provide important terms and concepts for developing SHAs. The Service's Safe Harbor policy and regulations are available at the following website: http://www.fws.gov/endangered/laws-policies/regulations-and-policies.html.

Proposed Action

The applicant has submitted a draft SHA for the Amargosa vole that covers approximately 467 acres of land (enrolled property) in Inyo County, California, within historical but currently unoccupied habitat of the Amargosa vole. The enrolled property comprises marsh habitat in areas irrigated by water from Shoshone Spring or other sources, interspersed trees of various species, open meadow, various degrees of undisturbed and disturbed salt scrub desert, and developed areas. Development within the enrolled property includes the Shoshone Trailer RV Park (camping sites, picnic areas, walking trails, and a swimming pool), various parking areas, and unpaved trails and roads. The broader Enrolled Property is bisected by Old State Highway CA 127 and State Highway CA 127, and lies adjacent to land owned by the Death Valley Unified School District. Within the enrolled property is a core area comprising three connected marsh sites where intensive habitat restoration activities have been implemented by the applicant, the Service, and other cooperators.

The permit and implementation of management activities described in the SHA will enable the translocation and reintroduction of wild Amargosa voles, which will expand the species' current range into historical habitat where it had previously been extirpated. Management activities will also include ongoing restoration in the core area to support this newly established population. The re-establishment of Amargosa vole populations within their historical range is a high-priority recovery action. Management activities in the SHA have been developed to support recovery actions for the Amargosa vole by restoring and protecting suitable habitat, and by implementing habitat management plans. The Service anticipates that implementation of these activities will produce the following net conservation benefits to the Amargosa vole:

• Re-establish Amargosa vole populations at the northern extent of the subspecies' range, in its historical type locality;

• Provide areas where suitable habitat for the Amargosa vole will be maintained, protected, and remain relatively undisturbed;

• Increase population redundancy within the subspecies' range; and

• Reduce the potential for local extirpation and extinction due to stochastic events (e.g., wildfire and disease) within the species' limited existing occupied habitat.

Species Information

The current range of the Amargosa vole is confined to 36 marshes in the Lower Amargosa River Valley in the vicinity of Tecopa Hot Springs and the northern end of the Amargosa Canyon. The Amargosa vole obligately depends upon, and is closely associated with, wetland vegetation dominated by Olney's three-square bulrush (Schoenoplectus americanus), where it generally occurs in isolated and disjunct marshes surrounded by saltgrass-dominated habitats or more xeric desert scrub or barren areas. Although not all of the mechanisms that drive habitat selection are fully understood, plausible explanations for habitat preference may include the presence of standing and flowing water, reliance on Olney's three-square bulrush as a vital food source, and utilization of bulrush litter layers (up to 3.3 feet in depth) for thermoregulation, nesting, and predator avoidance.

National Environmental Policy Act Compliance

The development of the draft SHA and the proposed issuance of an enhancement of survival permit are Federal actions that trigger the need for compliance with the NEPA (42 U.S.C. 4321 et seq.). We have prepared a draft EAS to analyze the impacts of permit issuance and implementation of the SHA on the human environment in comparison to the no-action alternative. We have made a preliminary determination that issuing the permit and implementing the SHA would have minor or negligible impacts to the environment, and thus the proposed SHA and permit actions are eligible for categorical exclusion under NEPA. The basis for our preliminary determination is contained in the EAS, which is available for public review (see ADDRESSES).

Next Steps

We will evaluate the permit application, associated documents, and comments we receive to determine whether the permit application meets the requirements of the ESA, NEPA, and their implementing regulations. If we determine that all requirements are met, we will sign the proposed SHA and issue a permit under section 10(a)(1)(A) of the ESA to the applicant. We will not make our final decision on the permit application until after the end of the public comment period, and we will fully consider all comments we receive during the comment period.

Public Availability of Comments

Written comments we receive become part of the public record associated with this action. Before including your address, phone number, email address, or other personal identifying information in your comment, you should be aware that the entire comment, including your personal identifying information, may be made available at any time. While you can ask us in your comment to withhold your personal identifying information from public review, we cannot guarantee that we will be able to do so.

Authority

We provide this notice under section 10(c) of the ESA (16 U.S.C. 1531 et seq.) and its implementing regulations (50 CFR 17.22 and 17.32), and NEPA (42 U.S.C. 4371 et seq.) and its implementing regulations (40 CFR 1506.6; 43 CFR part 46).

Scott Sobiech,
Field Supervisor, Carlsbad Fish and Wildlife Office, Pacific Southwest Region.

[FR Doc. 2020-15437 Filed 7-16-20; 8:45 am]

BILLING CODE 4333-15-P